OFFICE OF THE UNITED STATES TRADE REPRESENTATIVE

Notice of Product Exclusions: China's Acts, Policies, and Practices Related to Technology Transfer, Intellectual Property, and Innovation

AGENCY: Office of the United States Trade Representative.

ACTION: Notice of product exclusions.

SUMMARY: In September of 2018, the U.S. Trade Representative imposed additional duties on goods of China with an annual trade value of approximately $200 billion as part of the action in the Section 301 investigation of China's acts, policies, and practices related to technology transfer, intellectual property, and innovation. The U.S. Trade Representative initiated a product exclusion process in June 2019, and interested persons have submitted requests for the exclusion of specific products. This notice announces the U.S. Trade Representative's determination to grant certain exclusion requests, as specified in the Annex to this notice, and corrects a ministerial error in a previously announced exclusion.

DATES: The product exclusions announced in this notice will apply as of the September 24, 2018, effective date of the $200 billion action, to August 7, 2020. The amendment announced in this notice is retroactive to the date the original exclusion was published.

FOR FURTHER INFORMATION CONTACT: For general questions about this notice, contact Assistant General Counsels Philip Butler or Megan Grimball, or Director of Industrial Goods Justin Hoffmann at (202) 395-5725. For specific questions on customs classification or implementation of the product exclusions identified in the Annex to this notice, contact traderemedy@cbp.dhs.gov.

SUPPLEMENTARY INFORMATION:

A. Background

For background on the proceedings in this investigation, please see the prior notices issued in the investigation, including 82 FR 40213 (August 23, 2017), 83 FR 14906 (April 6, 2018), 83 FR 28710 (June 20, 2018), 83 FR 33608 (July 17, 2018), 83 FR 38760 (August 7, 2018), 83 FR 47974 (September 21, 2018), 83 FR 49153 (September 28, 2018), 83 FR 65198 (December 19, 2018), 84 FR 7966 (March 5, 2019), 84 FR 20459 (May 9, 2019), 84 FR 29576 (June 24, 2019), 84 FRN 38717 (August 7, 2019), 84 FR 46212 (September 3, 2019), 84 FR 49591 (September 20, 2019), 84 FR 57803 (October 28, 2019), 84 FR 61674 (November 13, 2019), 84 FR 65882 (November 29, 2019), and 84 FR 69012 (December 17, 2019).

Effective September 24, 2018, the U.S. Trade Representative imposed additional 10 percent duties on goods of China classified in 5,757 full and partial subheadings of the Harmonized Tariff Schedule of the United States (HTSUS), with an approximate annual trade value of $200 billion. See 83 FR 47974, as modified by 83 FR 49153. In May 2019, the U.S. Trade Representative increased the additional duty to 25 percent. See 84 FR 20459. On June 24, 2019, the Trade Representative established a process by which U.S. stakeholders may request exclusion of particular products classified within an 8-digit HTSUS subheading covered by the $200 billion action from the additional duties. See 84 FR 29576 (the June 24 notice).

Under the June 24 notice, requests for exclusion had to identify the product subject to the request in terms of the physical characteristics that distinguish the product from other products within the relevant 8-digit subheading covered by the $200 billion action. Requestors also had to provide the 10-digit subheading of the HTSUS most applicable to the particular product requested for exclusion, and could submit information on the ability of U.S. Customs and Border Protection to administer the requested exclusion. Requestors were asked to provide the quantity and value of the Chinese-origin product that the requestor purchased in the last three years. With regard to the rationale for the requested exclusion, requests had to address the following factors:

• Whether the particular product is available only from China and specifically whether the particular product and/or a comparable product is available from sources in the United States and/or third countries.

• Whether the imposition of additional duties on the particular product would cause severe economic harm to the requestor or other U.S. interests.

• Whether the particular product is strategically important or related to “Made in China 2025” or other Chinese industrial programs.

The June 24 notice stated that the U.S. Trade Representative would take into account whether an exclusion would undermine the objective of the Section 301 investigation.

The June 24 notice required submission of requests for exclusion from the $200 billion action no later than September 30, 2019, and noted that the U.S. Trade Representative would periodically announce decisions. In August 2019, the U.S. Trade Representative granted an initial set of exclusion requests. See 84 FR 38717. The U.S. Trade Representative granted additional exclusions in September, October, November, and December 2019. See 84 FR 49591, 84 FR 57803, 84 FR 61674, 84 FR 65882, and 84 FR 69012. The Office of the United States Trade Representative regularly updates the status of each pending request on the USTR Exclusions Portal at https://exclusions.ustr.gov/s/docket?docketNumber=USTR-2019-0005.

B. Determination To Grant Certain Exclusions

Based on the evaluation of the factors set out in the June 24 notice, which are summarized above, pursuant to sections 301(b), 301(c), and 307(a) of the Trade Act of 1974, as amended, and in accordance with the advice of the interagency Section 301 Committee, the U.S. Trade Representative has determined to grant the product exclusions set out in the Annex to this notice. The U.S. Trade Representative's determination also takes into account advice from advisory committees and any public comments on the pertinent exclusion requests.

As set out in the Annex, the exclusions are reflected in 2 ten-digit HTSUS subheadings and 66 specially prepared product descriptions, which cover 81 separate exclusion requests.

In accordance with the June 24 notice, the exclusions are available for any product that meets the description in the Annex, regardless of whether the importer filed an exclusion request. Further, the scope of each exclusion is governed by the scope of the product descriptions in the Annex, and not by the product descriptions set out in any particular request for exclusion.

To correct a technical error and in order to conform to the Trade Representative's intent to grant an exclusion requested, the Annex to this notice also includes amendments to notes in the Harmonized Tariff Schedule of the United States.

Paragraph A, subparagraphs (3)-(7) are conforming amendments to the HTSUS reflecting the modifications made by the Annex.

Paragraph B, subparagraphs (1)-(2) are amendments to U.S. note 20(ll)(66) published at 84 FR 57803 (October 28, 2019) and U.S. note 20(mm)(34) published at 84 FR 61674 (November 13, 2019) reflecting modifications made to certain HTSUS statistical reporting numbers that will take effect January 1, 2020.

Paragraph C, fixes a technical error in U.S. note 20(b) to subchapter III of chapter 99 of the HTSUS.

As stated in the September 20, 2019 notice, the exclusions will apply from September 24, 2018, to August 7, 2020. U.S. Customs and Border Protection will issue instructions on entry guidance and implementation.

The U.S. Trade Representative will continue to issue determinations on pending requests on a periodic basis.

Joseph Barloon,
General Counsel, Office of the U.S. Trade Representative.

ANNEX

A. Effective with respect to goods entered for consumption, or withdrawn from warehouse for consumption, on or after 12:01 a.m. eastern daylight time on September 24, 2018, subchapter III of chapter 99 of the Harmonized Tariff Schedule of the United States (HTSUS) is modified:

1. by inserting the following new heading 9903.88.37 in numerical sequence, with the material in the new heading inserted in the columns of the HTSUS labeled “Heading/Subheading”, “Article Description”, and “Rates of Duty 1-General”, respectively:

Heading/ subheading | Article description | Rates of duty: 1: General | Rates of duty: 1: Special | Rates of duty: 2
“9903.88.37 | Articles the product of China, as provided for in U.S. note 20(pp) to this subchapter, each covered by an exclusion granted by the U.S. Trade Representative | The duty provided in the applicable subheading” |

2. by inserting the following new U.S. note 20(pp) to subchapter III of chapter 99 in numerical sequence:

“(pp) The U.S. Trade Representative determined to establish a process by which particular products classified in heading 9903.88.03 and provided for in U.S. notes 20(e) and (f) to this subchapter could be excluded from the additional duties imposed by heading 9903.88.03, and by which particular products classified in heading 9903.88.04 and provided for in U.S. note 20(g) to this subchapter could be excluded from the additional duties imposed by heading 9903.88.04. See 83 FR 47974 (September 21, 2018) and 84 FR 29576 (June 24, 2019). Pursuant to the product exclusion process, the U.S. Trade Representative has determined that the additional duties provided for in heading 9903.88.03 or in heading 9903.88.04 shall not apply to the following particular products, which are provided for in the enumerated statistical reporting numbers:

(1) 8712.00.1510

(2) 8712.00.1550

(3) Nonwoven wipes, impregnated with organic surfactant preparations of a kind used to remove hair-color stains from the skin, put up for retail sale in canisters each containing 100 wipes (described in statistical reporting number 3401.11.5000)

(4) Endless synchronous belts of vulcanized rubber, molded polyurethane, neoprene, or welded urethane, each of an outside circumference of 60 cm or more but not more than 77 cm and a width of 2.5 cm or more but not exceeding 4 cm, weighing 0.18 kg or more but not exceeding 0.45 kg (described in statistical reporting number 4010.35.9000)

(5) Briefcases with outer surface of leather, each measuring no more than 37 cm by 45 cm by 17 cm (described in statistical reporting number 4202.11.0030)

(6) Storage containers of paulownia wood, each measuring 8 cm or more but not over 41 cm in width, 8 cm or more but not over 41 cm in depth and 9 cm or more but not over 41 cm in height (described in statistical reporting number 4420.90.8000)

(7) Woven fabric of 100 percent textured polyester filaments, dyed, weighing more than 170 g/m², measuring not more than 310 cm in width (described in statistical reporting number 5407.52.2060)

(8) Woven fabric of synthetic filament yarn containing 85 percent or more by weight of textured polyester filaments, dyed, measuring 249 cm in width, weighing more than 170 g/m² (described in statistical reporting number 5407.52.2060)

(9) Woven dupioni fabric wholly of non-textured dyed polyester filaments, weighing not more than 170 g/m², measuring not more than 310 cm in width (described in statistical reporting number 5407.61.9930)

(10) Woven fabric wholly of polyester, dyed, not flat, containing non-textured polyester filaments, weighing not more than 170 g/m², measuring not over 310 cm in width (described in statistical reporting number 5407.61.9930)

(11) Woven fabric wholly of polyester, dyed, containing non-textured polyester filaments, weighing more than 170 g/m², measuring not over 310 cm in width (described in statistical reporting number 5407.61.9935)

(12) Woven fabric containing by weight 47 percent of nylon and 53 percent of polyester, dyed, containing textured filaments, weighing not more than 170 g/m², measuring greater than 274 cm in width (described in statistical reporting number 5407.72.0015)

(13) Woven dyed fabrics wholly of spun polyester, weighing more than 240 g/m² and measuring not more than 310 cm in width (described in statistical reporting number 5512.19.0090)

(14) Woven dyed 3-thread twill fabrics containing by weight 65 percent of polyester and 35 percent of cotton staple fibers, not napped, weighing more than 200 g/m² and exceeding 310 cm in width (described in statistical reporting number 5514.22.0020)

(15) Storage containers of twisted paper rope, each measuring not less than 8 cm but not more than 39 cm in length, not less than 8 cm but not more than 39 cm in width and not less than 9 cm but not more than 57 cm in height (described in statistical reporting number 5609.00.4000)

(16) Woven dyed embroidery fabrics containing by weight 55 percent of polyester and 45 percent of nylon, weighing less than 115 g/m² and measuring 289 cm in width (described in statistical reporting number 5810.92.9080)

(17) Vault doors of stamped, welded and powder-coated 12-gauge carbon steel, each measuring 2 m or more in height, 81 cm or more but not more than 92 cm in width and 7.7 cm in thickness, each fitted with nine locking bolts, a slip-clutch handle and a programmable electric lock with keypad, with mechanical key override, presented with matching door frame (described in statistical reporting number 7308.30.5050)

(18) Steel staples suitable for use in powder-actuated handtools, not threaded, each weighing 37 g or more but not over 41 g, measuring 2.8 cm or more but not over 12.7 cm in height, 6.4 cm or more but not over 7.4 cm in width and 3.3 cm or more but not over 12.2 cm in depth (described in statistical reporting number 7317.00.2000)

(19) Safes of 16 gauge carbon steel, each stamped, welded and powder-coated, with a programmable electric lock with keypad, mechanical key override, measuring 27 cm or more but not over 33 cm in length, 21 cm or more but not over 23 cm in width and 6 cm or more but not over 23 cm in depth (described in statistical reporting number 7323.99.9080)

(20) Fish tapes of steel and plastics, each weighing 516 g or more but not over 3,810 g and measuring no greater than 46 cm by 34 cm by 5 cm (described in statistical reporting number 7326.90.8688)

(21) Steel clamps with rubber insulation, each weighing not more than 45.4 grams and measuring not more than 26 mm in height, not more than 54 mm in width and not more than 97 mm in depth (described in statistical reporting number 7326.90.8688)

(22) Telescoping poles of steel, spring loaded, with ends of plastic, each measuring not less than 127 cm but not more than 314 cm in height and not more than 2.6 cm in diameter (described in statistical reporting number 7326.90.8688)

(23) Awning casting endplates, of aluminum, weighing not less than 0.1 kg, measuring not less than 17 cm in length, not less than 10 cm in width, and not less than 1 cm in height (described in statistical reporting number 7610.90.0080)

(24) Decorative cast aluminum endcaps, of a kind used with structural elements of roof-mounted patio awnings for recreational vehicles (RVs), each measuring not more than 19 cm in length, not more than 11.5 cm in width and not more than 3 cm in thickness, weighing not more than 0.15 kg each (described in statistical reporting number 7610.90.0080)

(25) Clips of aluminum shaped like the letter “J”, with the diameter of the loop not exceeding 13 mm, each with a hole drilled through the long part of the “J” (described in statistical reporting number 7616.99.5190)

(26) Telescoping poles of aluminum, spring loaded, with ends of plastic, each measuring not less than 1.5 m but not more than 3.7 m in height and 2.9 cm or more but not exceeding 3.6 cm in diameter (described in statistical reporting number 7616.99.5190)

(27) Awning casting pivots, of zinc coated aluminum, weighing not less than 0.6 kg, measuring not less than 9 cm in length, not less than 6 cm in width, and not less than 4 cm in height (described in statistical reporting number 7907.00.6000)

(28) Hand tools of steel, similar to pliers, each capable of crimping, stripping and cutting wire, weighing at least 170 g or more but not exceeding 460 g, and measuring not more than 26 cm by jaw opening size of 30 cm by 11 cm by 2.5 cm (described in statistical reporting number 8203.20.6060)

(29) Hand tools of steel similar to pliers, designed for crimping electrical connectors and cutting wire, each weighing 333 g and measuring no more than 26 cm by 11 cm by 2.5 cm (described in statistical reporting number 8203.20.6060)

(30) Cutting parts for rock drilling or earth boring tools, each containing by weight over 0.2 percent of chromium, molybdenum or tungsten or over 0.1 percent of vanadium (described in statistical reporting number 8207.19.3090)

(31) Sets of flatware of stainless steel, containing no article plated with precious metal, put up for retail sale (described in statistical reporting number 8215.20.0000)

(32) Hydraulic valve lifters of steel with rollers, suitable for use solely or principally with spark-ignition internal combustion piston engines (other than for aircraft engines, marine propulsion engines or for vehicles of subheading 8701.20, or headings 8702, 8703 or 8704), each measuring 5 cm or more but not over 13 cm in length and 2.5 cm or more but not over 3.9 cm in diameter and weighing 135 g or more but not over 410 g (described in statistical reporting number 8409.91.9990)

(33) Solid valve lifters of steel, suitable for use solely or principally with spark-ignition internal combustion piston engines (other than for aircraft engines, marine propulsion engines or for vehicles of subheading 8701.20, or headings 8702, 8703 or 8704), each measuring 19 mm or more but not over 114 mm in length and 6 mm or more but not over 26 mm in diameter and weighing 20 g or more but not over 250 g (described in statistical reporting number 8409.91.9990)

(34) Hand pumps (other than for fuel or lubricants, not fitted or designed to be fitted with a metering device), each used to dispense a metered quantity of liquid soap or sanitizer (described in statistical reporting number 8413.20.0000)

(35) Lubricating pumps for internal combustion piston engines (described in statistical reporting number 8413.30.9060)

(36) Hand- or foot-operated air pumps, each weighing 400 g or more but not over 3 kg, with a maximum pressure of 1.52 MPa, imported with adapters for valves for tires and inner tubes (described in statistical reporting number 8414.20.0000)

(37) Ventilation fans for motor vehicles, consisting of a 12 V DC reversible multispeed electric motor drawing 5 A, with axial fan blade, electrically operating baffle, electric keypad and circuit board and wire mesh screen, measuring no more than 36 cm by 36 cm (described in statistical reporting number 8414.59.6540)

(38) Ventilation fans for motor vehicles, consisting of a 12 V DC single speed electric motor drawing 5 A, with axial fan blade, manual baffle, rotary switch and wire mesh screen, measuring no more than 36 cm by 36 cm (described in statistical reporting number 8414.59.6540)

(39) 12 V fans of a kind used to disperse fragrance oils, measuring over 10 but not over 11 cm in diameter (described in statistical reporting number 8414.59.6595)

(40) Portable air compressors, each delivering under 0.57 cubic meters per minute (described in statistical reporting number 8414.80.1685)

(41) Winches powered by an electric motor, each weighing 9 kg or more but not exceeding 14 kg, with a pulling capacity of 1,130 kg or more but not exceeding 2,730 kg (described in statistical reporting number 8425.31.0100)

(42) Winches powered by an electric motor, each with a pulling capacity of 4,300 kg or more but not exceeding 7,940 kg (described in statistical reporting number 8425.31.0100)

(43) Ratchet tie down straps, each consisting of straps of textiles measuring not less than 25 mm and not more than 105 mm in width and not more than 12.5 m in length, steel hooks at opposite ends of the straps and a gear and pawl mechanism for adjusting the length of the whole (described in statistical reporting number 8479.89.9499)

(44) Wireless battery chargers for mobile phones, each in the form of a picture frame incorporating a wireless charger or a stand incorporating a wireless charger that permits the mobile phone to be charged while standing on end (described in statistical reporting number 8504.40.8500)

(45) Alternators for motor vehicle charging systems (described in statistical reporting number 8511.50.0000)

(46) Alarms to be installed in motor vehicles, each of which provides either a warning sound or a warning sound and a flashing light when a motor vehicle is being operated in reverse (described in statistical reporting number 8512.30.0040)

(47) Projectors (“trumpets”) of plastics for air horns (described in statistical reporting number 8512.90.2000)

(48) Color video cameras for use with microscopes, each camera with C-mount lens mount, weighing not more than 87 g, measuring not more than 109 mm in length and 31 mm in diameter, presented with a cable measuring not more than 1.5 m in length (described in statistical reporting number 8525.80.3010)

(49) Digital color video cameras for use with microscopes, each camera with 10 megapixel resolution, weighing not more than 175 g, measuring 63 mm by 37 mm in length, presented with USB cable, reduction lens, eyepiece adapters, software CD and calibration slide (described in statistical reporting number 8525.80.3010)

(50) Digital color video cameras for use with microscopes, each camera with autofocus, C-mount lens mount, 1080p resolution, weighing not more than 450 g, measuring not more than 67 mm by 67 mm by 81 mm, presented with AC power adapter and power cable (described in statistical reporting number 8525.80.3010)

(51) Ultraviolet lamps used for skin tanning purposes, packaged for retail sale and weighing more than 5 kg but less than 10 kg (described in statistical reporting number 8539.49.0040)

(52) Hand held, battery-powered electrical devices that administer transcutaneous electrical nerve stimulation (TENS) and electrical muscle stimulation (EMS) via adhesive electrode pads attached to the skin (described in statistical reporting number 8543.70.8500)

(53) Insulated conductors, not of a kind used for telecommunications, for a voltage not exceeding 1,000 V, each with polyvinyl chloride (PVC) covers and connectors at each end in bundles of 3, 5 or 6 for use in connecting patients to monitoring devices (described in statistical reporting number 8544.42.9090)

(54) Electrical insulators (“wire nuts”) of plastics and steel (described in statistical reporting number 8546.90.0000)

(55) Motor mount kits each consisting of 3 to 5 components, each of stainless-steel or aluminum combined with a heat resistant rubber material and with holes machined for mounting the engine to the car or truck body, designed for use in aftermarket automotive repair (described in statistical reporting number 8708.99.5500)

(56) Wear bars comprising strips of carbide for the vehicles of 8703.10.10 (described in statistical reporting number 8708.99.8180)

(57) Bicycle saddles, each having a cover of plastics, man-made textile fabrics or a combination of the two (described in statistical reporting number 8714.95.0000)

(58) Compound binocular optical microscopes (other than stereoscopic microscopes and microscopes for photomicrography, cinemicrography or microprojection), each with magnification of 40X or more but not exceeding 1,000X, weighing not more than 3 kg (described in statistical reporting number 9011.80.0000)

(59) Compound optical microscopes (other than stereoscopic microscopes and microscopes for photomicrography, cinemicrography or microprojection), each with magnification of 40X or more but not exceeding 400X, weighing not more than 15 kg (described in statistical reporting number 9011.80.0000)

(60) Stackable upholstered metal chairs for religious worship settings, capable of interlocking with each other, each with attached holders and racks (described in statistical reporting number 9401.71.0031)

(61) Hunting stands of steel or aluminum (including ladder stands, pod stands, hang-on stands and climbing stands), each of which allows one or more hunters to ascend to a height and sit while waiting for game animals to appear (described in statistical reporting number 9401.79.0035)

(62) Parts of chairs of unfinished plywood, including bodies, legs and arms (described in statistical reporting number 9401.90.4080)

(63) Chair frames of metal, each with integral bookshelf, capable of being stacked (described in statistical reporting number 9401.90.5081)

(64) Folding wheeled trays, each having a fixed height of no more than 90 cm and a tray measuring not more than 37 cm by 40 cm (described in statistical reporting number 9403.20.0090)

(65) Wheeled trays, each with 5 wheels, 3 bowls of plastic with suction cup bottoms and adjustable height from 65 cm to 108 cm (described in statistical reporting number 9403.20.0090)

(66) Baby crib liners, each composed of two pieces of multi-layer warp polyester knit mesh without any padding, one measuring no more than 29 cm by 283 cm and the other measuring no more than 29 cm by 210 cm (described in statistical reporting number 9403.90.6005)

(67) Flexible strips having embedded light-emitting diodes electrically connected to a molded electrical end connector, each strip wound onto a reel measuring not more than 25 cm in diameter and not more than 1.5 cm in width (described in statistical reporting number 9405.40.8440)

(68) Light boxes, each measuring not more than 32 cm by 58 cm by 12 cm, weighing less than 10 kg, with two biaxial fluorescent lamps that provide light therapy for seasonal and sleep disorders (described in statistical reporting number 9405.40.8440)”

3. by amending the last sentence of the first paragraph of U.S. note 20(e) to subchapter III of chapter 99:

a. by deleting the word “or” where it appears after the phrase “U.S. note 20(nn) to subchapter III of chapter 99;”; and

b. by inserting the phrase “; or (7) heading 9903.88.37 and U.S. note 20(pp) to subchapter III of chapter 99” after the phrase “U.S. note 20(oo) to subchapter III of chapter 99”.

4. by amending U.S. note 20(f) to subchapter III of chapter 99;

a. by deleting the word “or” where it appears after the phrase “U.S. note 20(nn) to subchapter III of chapter 99;”; and

b. by inserting the phrase “; or (7) heading 9903.88.37 and U.S. note 20(pp) to subchapter III of chapter 99” after the phrase “U.S. note 20(oo) to subchapter III of chapter 99”.

5. by amending the first sentence of U.S. note 20(g) to subchapter III of chapter 99:

a. by deleting “or” where it appears after “U.S. note 20(ll) to subchapter III of chapter 99”; and

b. by inserting “(3) heading 9903.88.36 and U.S. note 20(oo) to subchapter III of chapter 99; or (4) heading 9903.88.37 and U.S. note 20(pp) to subchapter III of chapter 99” after “U.S. note 20(mm) to subchapter III of chapter 99”.

6. by amending the Article Description of heading 9903.88.03:

a. by deleting “9903.88.35 or” and inserting “9903.88.35,” in lieu thereof; and

b. by inserting “or 9903.88.37,” after “9903.88.36,”.

7. By amending the Article Description of heading 9903.88.04:

a. By deleting “9903.88.34 or” and inserting “9903.88.34,” in lieu thereof; and

b. By inserting “or 9903.88.37,” after “9903.88.36,”.

B. Effective with respect to goods entered for consumption, or withdrawn from warehouse for consumption, on or after 12:01 a.m. eastern daylight time on September 24, 2018, subchapter III of chapter 99 of the Harmonized Tariff Schedule of the United States (HTSUS) is modified:

a. U.S. note 20(ll)(66) to subchapter III of chapter 99 of the Harmonized Tariff Schedule of the United States is modified by inserting “prior to January 1, 2020; described in statistical reporting number 8708.70.4546 effective January 1, 2020” after “8708.70.4545”.

b. U.S. note 20(mm)(34) to subchapter III of chapter 99 of the Harmonized Tariff Schedule of the United States is modified by inserting “prior to January 1, 2020; described in statistical reporting number 8708.70.4546 effective January 1, 2020” after “8708.70.4545”.

C. U.S. note 20(b) to subchapter III of chapter 99 of the HTSUS is amended by deleting “or (7) heading 9903.88.19” and inserting “or (8) heading 9903.88.19” in lieu thereof.

[FR Doc. 2019-28506 Filed 1-3-20; 8:45 am]

BILLING CODE 3290-F0-P